DEPARTMENT OF ENERGY

Federal Energy Regulatory Commission

[Docket No. IC99-423-001, FERC Form No. 423]

Information Collection Submitted for Review and Request for Comments

August 29, 2000.

AGENCY: Federal Energy Regulatory Commission.

ACTION: Notice of submission for review of the Office of Management and Budget (OMB) and request for comments.

SUMMARY: The Federal Energy Regulatory Commission (Commission) has submitted the energy information collection listed in this notice to the Office of Management and Budget (OMB) for review under provisions of section 3507 of the Paperwork Reduction Act of 1995 (Pub. L. 104-13). Any interested person may file comments on the collection of information directly with OMB and should address a copy of those comments to the Commission, as explained below. The Commission received comments from eighteen entities in response to an earlier Federal Register notice of August 20, 1999 (64 FR 45519-20) and has responded to those comments in this submission.

DATES: Comments regarding this collection are best assured of having their full effect if received on or before October 5, 2000.

ADDRESSES: Address comments of Office of Management and Budget, Office of Information and Regulatory Affairs, Attention: Federal Energy Commission Desk Officer, 725 17th Street NW, Washington, DC 20503. A copy of the comments should also be sent to Federal Energy Regulatory Commission, Office of the Chief Information Officer, Attention: Mr. Michael Miller, 888 First Street, NE., Washington DC 20426. Mr. Miller may be reached by telephone at (202) 208-1415 and by e-mail at mike.miller@ferc.fed.us.

SUPPLEMENTARY INFORMATION:

Description

The energy information collection submitted to OMB for review contains:

1. Collection of Information: FERC Form 423, “Monthly Report of Cost and Quality of Fuels for Electric Plants”.

2. Sponsor: Federal Energy Regulatory Commission.

3. Control No.: 1902-0024. The Commission is requesting reinstatement, without change, of the previously approved data collection for which approval expired July 31, 2000, and a three-year approval of the collection of data. This is a mandatory information collection requirement.

4. Necessity of Collection of Information: Submission of the information is necessary to enable the Commission to carry out its responsibilities in implementing provisions of sections 205-206 of the Federal Power Act as amended by section 208 of the Public Utility Regulatory Policies Act (PURPA).

The Commission uses the information to collect basic cost and quality of fuels data at electric generating plants on the FERC Form 423, and has used such data to conduct fuel reviews, rate investigations and to track market changes and trends in the electric wholesale market. The data is also used by other government agencies to track the supply, disposition and prices of fuel, to conduct environmental assessments, and by electric market participants and the public to assess the competitive market place.

5. Respondent Description: The respondent universe currently comprises approximately 209 public utilities. FERC Form 423 collects from every electric power producer having electric generating plants with a rated capacity of 50 megawatts or greater, monthly data on the cost and quality of fuel delivered to each generating plant. There are approximately 636 generating plants.

6. Estimated Burden: 11,448 total burden hours, 636 respondents, 12 responses annually, 1.5 hours per response.

Authority: Sections 205-206 of the FPA (16 U.S.C. 824d and e) and section 208, of the Public Utility Regulatory Policies Act (PURPA). (16 U.S.C. 2601 et. al.).

Linwood A. Watson, Jr.,
Acting Secretary.

[FR Doc. 00-22585 Filed 9-1-00; 8:45 am]

BILLING CODE 6717-01-M